DEPARTMENT OF ENERGY

Federal Energy Regulatory Commission

[Docket No. RP02-236-000]

Transwestern Pipeline Company; Notice of Tariff Filing

May 2, 2002.

Take notice that on April 29, 2002, Transwestern Pipeline Company (TW) tendered for filing as part of its FERC Gas Tariff, Second Revised Volume No. 1, the following tariff sheets to become effective July 1, 2002:

6th Revised Sheet No. 95B

5th Revised Sheet No. 95B.01

7th Revised Sheet No. 95C

2nd Revised Sheet No. 95H.01

TW states that on March 11, 2002, in Docket No. RM96-1-019, the Federal Energy Regulatory Commission (Commission) issued Order No. 587-N (Order). In the Order, the Commission amended its regulations governing standards for interstate pipeline business operations and communications to require that pipelines permit releasing shippers, as a condition of a capacity release, to recall released capacity and renominate such recalled capacity at each nomination opportunity. The Commission believes this rule creates greater flexibility for firm capacity holders on interstate pipelines by synchronizing the Commission's regulation of recalled capacity with its standards for intra-day nominations. The Order requires pipelines to make tariff filings implementing provisions of the Order by May 1, 2002, to become effective by July 1, 2002. TW also states that this filing is made in compliance with Order No. 587-N.

Any person desiring to be heard or to protest said filing should file a motion to intervene or a protest with the Federal Energy Regulatory Commission, 888 First Street, NE., Washington, DC 20426, in accordance with sections 385.214 or 385.211 of the Commission's rules and regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11420 Filed 5-7-02; 8:45 am]

BILLING CODE 6717-01-P